NATIONAL AERONAUTICS AND SPACE ADMINISTRATION

[Notice: (22-100)]

NASA Advisory Council; Meeting

AGENCY: National Aeronautics and Space Administration.

ACTION: Notice of meeting.

SUMMARY: In accordance with the Federal Advisory Committee Act, the National Aeronautics and Space Administration (NASA) announces a meeting of the NASA Advisory Council (NAC).

DATES: Tuesday, January 17, 2023, 10:15 a.m.-4:30 p.m. eastern time; and Wednesday, January 18, 2023, 8:00 a.m.-12:00 p.m. eastern time.

ADDRESSES: Virtual meeting via telephone and WebEx.

FOR FURTHER INFORMATION CONTACT: Ms. Marcia Guignard, NAC Administrative Officer, NASA Headquarters, Washington, DC 20546, marcia.guignard@nasa.gov.

SUPPLEMENTARY INFORMATION: This meeting will only be available by Webex or telephonically for members of the public. If dialing in via toll number, you must use a touch-tone phone to participate in this meeting. Any interested person may join via Webex on Tuesday, January 17th at https://nasaenterprise.webex.com, the meeting number is 2760 679 3993, and the password is iuC6JKkc*22. To join by telephone call, use US Toll +1-415-527-5035 (Access code: 2760 679 3993). You may join via Webex on Wednesday, January 18th at https://nasaenterprise.webex.com, the meeting number is 2760 606 6610, and the password is RDvdr4NG@73. To join by telephone call, use US Toll +1-415-527-5035 (Access code: 2760 606 6610).

The agenda for the meeting will include reports on the following NAC priority focus areas:

—Climate Change

—Commercial and Industry Partnerships

—Diversity, Equity, Inclusion and Accessibility

—International Collaboration

—Program Management and Acquisition

The agenda for the meeting will also include reports from the following NAC committees:

—Aeronautics Committee

—Human Exploration and Operations Committee

—Science Committee

—STEM Engagement Committee

—Technology, Innovation and Engineering Committee

It is imperative that the meeting be held on this date to accommodate the scheduling priorities of the key participants.

Carol Hamilton,
Acting Advisory Committee Management Officer, National Aeronautics and Space Administration.

[FR Doc. 2022-27753 Filed 12-21-22; 8:45 am]

BILLING CODE 7510-13-P